FEDERAL COMMUNICATIONS COMMISSION

47 CFR Part 11

[EB Docket No. 04-296; FCC 15-60]

Review of the Emergency Alert System

AGENCY: Federal Communications Commission.

ACTION: Final rule; announcement of effective date.

SUMMARY: In this document, the Commission announces that the Office of Management and Budget (OMB) has approved, for a period of three years, the information collection associated with the Commission's EAS Test Reporting System (ETRS). This notice is consistent with the Emergency Alert System (EAS) Sixth Report and Order, FCC 15-60, which stated that the Commission would publish a document in the Federal Register announcing the effective date of those rules.

DATES: The amendments to 47 CFR 11.21(a) and 11.61(a)(3)(iv) published at 80 FR 37167, June 30, 2015, are effective on December 31, 2015.

FOR FURTHER INFORMATION CONTACT: Lisa Fowlkes, Deputy Bureau Chief, Public Safety and Homeland Security Bureau, at (202) 418-7452, or by email at Lisa.Fowlkes@fcc.gov.

SUPPLEMENTARY INFORMATION: This document announces that, on December 4, 2015, OMB approved, for a period of three years, the information collection requirements relating to the access stimulation rules contained in the Commission's EAS Sixth Report and Order, FCC 15-60, published at 80 FR 37167, June 30, 2015.

The OMB Control Number is 3060-0207. The Commission publishes this notice as an announcement of the effective date of the rules. If you have any comments on the burden estimates listed below, or how the Commission can improve the collections and reduce any burdens caused thereby, please contact Nicole Ongele, Federal Communications Commission, Room A-C620, 445 12th Street SW., Washington, DC 20554. Please include the OMB Control Number, 3060-0207, in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received final OMB approval on December 4, 2015, for the information collection requirements contained in the modifications to the Commission's rules in 47 CFR part 11. Under 5 CFR 1320, an agency may not conduct or sponsor a collection of information unless it displays a current, valid OMB Control Number.

No person shall be subject to any penalty for failing to comply with a collection of information subject to the Paperwork Reduction Act that does not display a current, valid OMB Control Number. The OMB Control Number is 3060-0207.

The foregoing notice is required by the Paperwork Reduction Act of 1995, Pub. L. 104-13, October 1, 1995, and 44 U.S.C. 3507.

The total annual reporting burdens and costs for the respondents are as follows:

OMB Control Number: 3060-0207.

OMB Approval Date: December 4, 2015.

OMB Expiration Date: December 31, 2018.

Title: Part 11, Emergency Alert System (EAS), Sixth Report and Order.

Form Number: N/A.

Respondents: Business or other for-profit entities, not-for-profit institutions, and state, local or tribal government.

Number of Respondents and Responses: 63,080 respondents; 3,569,028 responses.

Estimated Time per Response: 43 hours.

Frequency of Response: On occasion reporting requirement and recordkeeping requirement.

Obligation to Respond: Obligatory for all entities required to participate in EAS.

Total Annual Burden: 82,008 hours.

Total Annual Cost: No cost.

Nature and Extent of Confidentiality: Filings will be given the presumption of confidentiality. The Commission will allow test data and reports containing individual test data to be shared on a confidential basis with other Federal agencies and state governmental emergency management agencies that have confidentiality protection at least equal to that provided by the Freedom of Information Act (FOIA). See 5 U.S.C. 552 (2006), amended by OPEN Government Act of 2007, Pub. L. 110-175, 121 Stat. 2524 (stating the FOIA confidentiality standard, along with relevant exemptions).

Privacy Act: No impact.

Needs and Uses: Part 11 contains rules and regulations addressing the nation's Emergency Alert System (EAS). The EAS provides the President with the capability to provide immediate communications and information to the general public at the national, state and local area level during periods of national emergency. The EAS also provides state and local governments and the National Weather Service with the capability to provide immediate communications and information to the general public concerning emergency situations posing a threat to life and property.

EAS Participants must utilize the ETRS to file identifying and test result data as part of their participation in the second nationwide EAS test. Although the ETRS adopted in this Sixth Report and Order in EB Docket No. 04-296, FCC 15-60, largely resembles the version used during the first nationwide EAS test, it also contains certain improvements, such as support for pre-population of form data, and integration of form data into an EAS “Mapbook.” ETRS will continue to collect such identifying information as station call letters, license identification number, geographic coordinates, EAS designation, EAS monitoring assignment, and emergency contact information. EAS Participants will submit this identifying data prior to the test date. On the day of the test, EAS Participants will input test results into ETRS (e.g., whether the test message was received and processed successfully). They will input the remaining data called for by our reporting rules (e.g., more detailed test results) within 45 day of the test. The Commission believes that structuring ETRS in this fashion will allow EAS Participants to timely provide the Commission with test data in a minimally burdensome fashion.

Our analysis indicates that this revised collection will cause no change in the burden estimates or reporting and recordkeeping requirements that the Commission submitted (and which OMB subsequently approved) for the 2011 system. The revised information collection requirements contained in this collection are as follows: Section 11.21(a) requires EAS Participants to provide the identifying information required by the ETRS no later than sixty days after the publication in the Federal Register of a notice announcing the approval by the Office of Management and Budget of the modified information collection requirements under the Paperwork Reduction Act of 1995 and an effective date of the rule amendment, or within sixty days of the launch of the ETRS, whichever is later, and shall renew this identifying information on a yearly basis or as required by any revision of the EAS Participant's State EAS Plan filed pursuant to section 11.21 of this part, and consistent with the requirements of paragraph 11.61(a)(3)(iv) of this part. Section 11.61(a)(3)(iv) requires test results to be logged by all EAS Participants into the ETRS as determined by the Commission's Public Safety and Homeland Security Bureau, subject to the following requirements. EAS Participants shall provide the identifying information required by the ETRS initially no later than sixty days after the publication in the Federal Register of a notice announcing the approval by the Office of Management and Budget of the modified information collection requirements under the Paperwork Reduction Act of 1995 and an effective date of the rule amendment, or within sixty days of the launch of the ETRS, whichever is later, and shall renew this identifying information on a yearly basis or as required by any revision of the EAS Participant's State EAS Plan filed pursuant to section 11.21 of this part. EAS Participants must also file “day of test” data in the ETRS within 24 hours of any nationwide test or as otherwise required by the Public Safety and Homeland Security Bureau.

Federal Communications Commission.
Gloria J. Miles,
Federal Register Liaison Officer, Office of the Secretary.

[FR Doc. 2015-32034 Filed 12-21-15; 8:45 am]

BILLING CODE 6712-01-P